NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) Advisory Committee Meeting (#1173).

Date and Time:

June 20, 2019; 1:00 p.m.-5:30 p.m.

June 21, 2019; 8:30 a.m.-3:30 p.m.

Place: National Science Foundation, 2415 Eisenhower Avenue, Alexandria, VA 22314.

To help facilitate your entry into the building, please contact Una Alford (ualford@nsf.gov or 703-292-7111) on or prior to June 17, 2019.

Type of Meeting: Open.

Contact Person: Dr. Bernice Anderson, Senior Advisor and CEOSE Executive Secretary, Office of Integrative Activities (OIA); National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda:

• Opening Statement and Chair Report by the CEOSE Chair

• NSF Executive Liaison Report

• Update: NSF INCLUDES (Inclusion across the Nation of Communities of Learners of Underrepresented Discovers in Engineering and Science)

• Panel: Intersectionality and STEM Diversity

• Presentations: Supporting Minority-Serving Institutions to Broaden Participation in STEM Disciplines

• Reports and Updates from the CEOSE Liaisons and Federal Liaisons

• Discussion with NSF Leadership

• Update: Broadening Participation in Computing Pilot

• Announcements

Dated: May 16, 2019.
Crystal Robinson,
Committee Management Officer.

[FR Doc. 2019-10575 Filed 5-20-19; 8:45 am]

BILLING CODE 7555-01-P